NATIONAL ARCHIVES AND RECORDS ADMINISTRATION

[NARA-2024-024]

Freedom of Information Act (FOIA) Advisory Committee Meetings

AGENCY: Office of Government Information Services (OGIS), National Archives and Records Administration (NARA).

ACTION: Notice of Federal advisory committee meetings.

SUMMARY: We are announcing three upcoming Freedom of Information Act (FOIA) Advisory Committee meetings in accordance with the Federal Advisory Committee Act and the second United States Open Government National Action Plan.

DATES: The meetings will be on April 4, 2024, from 10 a.m. to 1 p.m. eastern time (ET); May 9, 2024, from 10 a.m. to 1 p.m. ET; and June 13, 2024, from 10 a.m. to 1 p.m. ET. You must register by 11:59 p.m. ET April 2, 2024; 11:59 p.m. ET May 7, 2024; and 11:59 p.m. ET June 11, 2024, to attend the April, May and June meetings, respectively. (See registration information below.)

ADDRESSES: These meetings will be virtual. We will send access instructions to those who register according to the instructions below.

FOR FURTHER INFORMATION CONTACT: Kirsten Mitchell, Designated Federal Officer for this committee, by email at foia-advisory-committee@nara.gov, or by telephone at 202.741.5775.

SUPPLEMENTARY INFORMATION:

Agendas and meeting materials: We will post all meeting materials, including the agenda, at https://www.archives.gov/ogis/foia-advisory-committee/2022-2024-term. These will be the ninth, tenth and eleventh meetings of the 2022-2024 committee term. The purpose of the April 4 and May 9 meetings will be to consider and vote on draft recommendations from the three Subcommittees: Resources, Implementation, and Modernization. The purpose of the June 13, 2024, meeting, the final of the 2022-2024 committee term, will be to consider the FOIA Advisory Committee's final draft report and recommendations to the Archivist of the United States.

Procedures: These virtual meetings are open to the public in accordance with the Federal Advisory Committee Act (5 U.S.C. app. 2). If you wish to offer oral public comments during the public comments periods of the meeting, you must register in advance (see deadlines in Dates section above) through Eventbrite at:

(1) https://www.eventbrite.com/e/freedom-of-information-act-foia-advisory-committee-mtg-april-4-2024-tickets-853698423967 for the April 4, 2024, meeting;

(2) https://www.eventbrite.com/e/freedom-of-information-act-foia-advisory-committee-mtg-may-9-2024-tickets-853849826817 for the May 9, 2024, meeting; and

(3) https://freedom-of-information-act-foia-advisory-committee-mtg-june-13.eventbrite.com for the June 13, 2024, meeting.

Public comments will be limited to three minutes per individual and must relate to the recommendations the Committee is considering. You must provide an email address so that we can provide you with information to access the meeting online. Public comments will be limited to three minutes per individual. We will also live-stream the meetings on the National Archives YouTube channel, https://www.youtube.com/user/usnationalarchives, and include a captioning option. To request additional accommodations (e.g., a transcript), email foia-advisory-committee@nara.gov or call 202.741.5770. Members of the media who wish to register, those who are unable to register online, and those who require special accommodations, should contact Kirsten Mitchell (contact information listed above).

Merrily Harris,
Committee Management Officer.

[FR Doc. 2024-05975 Filed 3-20-24; 8:45 am]

BILLING CODE 7515-01-P